DEPARTMENT OF STATE

22 CFR Parts 122 and 129

[Public Notice: 12542]

RIN 1400-AF78

International Traffic in Arms Regulations: Registration Fees

AGENCY: Department of State.

ACTION: Final rule.

SUMMARY: The Department of State published a proposed rule on April 24, 2024, requesting comment on proposals to amend the International Traffic in Arms Regulations (ITAR) by increasing and specifying the fees required for registration with the Directorate of Defense Trade Controls (DDTC). The Department now responds to the public comments received in response to that proposed rule and issues this final rule.

DATES: This rule is effective January 9, 2025.

FOR FURTHER INFORMATION CONTACT: Allison Smith, Director, Office of Defense Trade Controls Management, Department of State, telephone (202) 663-1282; email DDTCCustomerService@state.gov. ATTN: Registration Fee Change.

SUPPLEMENTARY INFORMATION:

Overview

This final rule implements a change and increase in registration fees for certain persons required under 22 U.S.C. 2778(b) to register with the Department of State's Directorate of Defense Trade Controls (DDTC) and pay a registration fee. It also returns the amount of fees registrants must pay to the International Traffic in Arms Regulations (ITAR) (22 CFR parts 120 through 130) and makes clarifying revisions to part 122 of the ITAR. This final rule follows a proposed rule (89 FR 31119), published on April 24, 2024, which included the proposed revisions to DDTC's registration fees and corresponding amendments to the ITAR.

As noted in its proposed rule, for the first time in fifteen years, the Department proposed to revise and increase the registration fees (also referred to as “fees”) charged to those required to register with DDTC. This increase is necessary because DDTC operations are primarily funded by fees. Without a sufficient increase to meet operational costs that have significantly risen since 2008, DDTC would be faced with untenable budget deficits and would be forced to reduce its services.

In accordance with section 38(b) of the Arms Export Control Act (AECA) (22 U.S.C. 2778(b)) and ITAR § 122.1 (22 CFR 122.1), every person who engages in the business of manufacturing, exporting, temporarily importing, or brokering any defense articles or defense services is required to register with DDTC, the agency charged with administering the relevant sections of the AECA. Section 38(b) of the AECA also requires that every person required to register pay a registration fee. As the ITAR implements section 38 of the AECA, and as its parts 122 and 129 (22 CFR parts 122 and 129) address registration, the Department proposed to revise those provisions to restate registration requirements without substantive change, to revise the Department's methodology for determining the fees paid by certain registrants, to increase registration fees, and to reinsert the actual amount of fees within the ITAR itself. The Department now provides responses to comments received on the proposed rule and amends the ITAR as of the effective date of this rule, with one correction from the proposed rule.

Summary of Changes From the Proposed Rule

In this final rule, the Department makes the changes it previously proposed, with one minor change. Due to a typographical error, the Tier 3 fee multiplier for favorable determinations was misidentified in two places as $1,110 instead of the correct amount of $1,100. The Tier 3 fee multiplier was correctly introduced in the preamble as $1,100 (89 FR 31121), but a subsequent preamble reference to the Tier 3 fee multiplier was misidentified as $1,110 (89 FR 31122). In addition, the incorrect reference was carried forward to amendatory instruction 3 of the proposed rule and identified the Tier 3 fee multiplier at proposed § 122.3(a)(3) as $1,110 (89 FR 31124). This final rule adopts the correct Tier 3 fee multiplier of $1,100 at ITAR § 122.3(a)(3).

Response to Comments

During the 45-day public comment period (April 24, 2024, through June 10, 2024) DDTC received 19 separate submissions from individuals, corporations, and industry associations in response to the notice of proposed rulemaking, some of which discussed more than one aspect of the proposed rule. All relevant comments addressed only ITAR § 122.3, which included proposed changes to the registration fees. The Department received no questions or comments on other changes in the proposed rule.

Several commenters expressed a view that the proposed increase is an unjust burden on small business and may be a barrier to entry for new small business registrants. One commenter in particular claimed that the increase in registration fees would be especially difficult for manufacturers who do not export but are required by large corporations to be registered with DDTC to do business with them and advised the new registration fee would subject their company to paying 1 percent of their gross revenue to be able to sell products domestically for DoD end-use. As a threshold matter, the Department is aware that some private sector businesses elect to have their own separate requirement for businesses with which they contract to be registered with DDTC, even when those contracting businesses are not legally required to register with DDTC under ITAR § 122.1. Such varying requirements by some private sector businesses are outside of the scope of ITAR § 122.1. Pursuant to ITAR § 122.1, persons who are not engaged in the business of manufacturing, exporting, or temporarily importing defense articles are not required by ITAR § 122.1 to register with DDTC. With respect to the fee amount, the Department notes that registrants who do not export fall within Tier 1 and pay the base fee of $3,000. That base fee represents a 33.1 percent increase from the prior Tier 1 fee, which is approximately 12 percent less than the increase for Tier 2 and is slightly less than it would have been had the Department used the 40.1 percent inflation adjustment based on 2008 dollars, when the registration fees were last amended.

The Department acknowledges and understands the commenters' concerns regarding small businesses. In response, the Department is instituting a planned one-year initiative for qualifying Tier 1 registrants, during which the Department will assess impact and consider extension. Tier 1 registrants may petition DDTC for consideration of a $500 discount (for a total registration fee of $2,500). To qualify, registrants must provide some form of proof that $3,000 was 1 percent or more of their total revenue for the last calendar year. “Total revenue” is the total amount of income and is not limited to sales of items controlled on the U.S. Munitions List (USML). Applicants must submit a complete request for special consideration to DDTC at least 30 calendar days prior to expiration of their current registration term. More information is available on the DDTC website, by searching “registration fee.” Moreover, as a result of the feedback received, the Department will review its registration fee structure more regularly to avoid large-percentage changes to registration fees.

In addition, the Department continues to have a process for registrants where they may address registration fee concerns. Tier 2 and Tier 3 registrants whose registration fees are greater than $3,500 may petition DDTC for a pre-set alternate payment schedule. To be considered for an alternate payment schedule, registrants must provide some form of proof that their registration fee is greater than 1 percent of their total sales in the given year. Total sales include domestic and international sales and are not limited to sales of items described on the USML. Additionally, the Department continues to have discounts available for Tier 3 renewals. To ensure fairness to those registrants in Tier 3, if the registrant timely shows that their total registration fee is greater than 3 percent of the total value of favorable determinations on license applications or other requests for authorization during the 12-month period ending 90 days prior to expiration of the current registration, the registration fee may be reduced to 3 percent of the value of such authorizations, or $4,000, whichever is greater. The Department also has discounts for exporters and temporary importers of low-value authorizations who fall under Tier 3, as described on the DDTC website (https://www.pmddtc.state.gov; under Support > Review FAQs > DECCS—Registration > “Understanding the Renewal Fee Download File”). Registrants who are wholly exempt from income taxation pursuant to 26 U.S.C. 501(c)(3) also qualify for the Tier 1 registration fee of $3,000.

One commenter agreed the proposal is fair for Tier 3 registrants to pay more than Tier 1 and Tier 2 registrants as they consume more services from DDTC, while expressing overall concern about the higher registration fees for all tiers.

Multiple commenters stated that the Tier 1 and Tier 2 inflationary adjustments are difficult for small businesses, citing negative economic impacts for their companies and that the registration fee increase is more than the rate of inflation increase since 2008. The Department appreciates that any increase in registration fees may cause difficulties for businesses, particularly small businesses. However, the Department assessed that after fifteen years of inflation, increasing technological improvements, and improved services, that an increase in the amount of registration fees is necessary for the continued and modernized operations of DDTC. Reflecting considerations such as those in the comments it expected to receive, DDTC set the Tier 1 and Tier 2 registration fee amounts to reflect an increase fairly consistent with inflation over the last fifteen years. Several commenters expressed concern that the Tier 3 proposed registration fee is significantly above the inflation rate when the additional fee multiplier for favorable determinations is factored in. The Department acknowledges this is accurate. The proposed registration fee structure allows DDTC to fund a large share of the many critical functions it provides to exporters, importers, brokers, manufacturers, and the public—such as the DDTC Response Team, Help Desk, commodity jurisdiction determinations, advisory opinions, guidance on brokering, and support for registration—all of which offer services for the approximately 14,500 current DDTC registrants and also for the general public. The Department has concluded that Tier 3 registrants have benefited the most from DDTC's improvements, specifically the Defense Export Control and Compliance System (DECCS) and customer service improvements, and that they are best positioned to contribute from their export-derived revenue to continue and improve DDTC's services. Additionally, Tier 3 registrants have more frequent interactions with DDTC and thus require more DDTC services. Because these improvements primarily benefit Tier 3 registrants, it is those registrants that will be asked to contribute more. Finally, the Department again notes the availability of discounted registration fees for high-volume, low-value Tier 3 registrants.

One commenter asked for clarification of how favorable determinations are classified and defined, and whether the scope of other requests for authorization encompasses application amendments and proviso reconsiderations. The commenter also asked the following questions: Are proviso reconsiderations included in the total? Are agreement amendments included in the total? The Department acknowledges this comment and clarifies that a favorable determination is an approval, an approval with provisos (sometimes also referred to as an approval with conditions), or written authorization from DDTC to conduct an activity regulated by the ITAR. An application that is returned without action or denied is not a type of favorable determination. That said, amendment requests and requests for proviso reconsiderations are considered in the registration fee calculation when they are positively adjudicated.

One commenter inquired how DDTC was able to temporarily reduce its Tier 1 and Tier 2 registration fees to $500 for 1 year due to the coronavirus (COVID-19) pandemic, yet the agency needs to increase its registration fees now. Given the extraordinary impact of COVID-19 on the national economy and Defense Industrial Base, DDTC temporarily reduced registration fees for registrants in Tier 1 and Tier 2 to $500 to help mitigate against the uncertain economic impact of the COVID-19 public health emergency. The temporary reduction in registration fees that occurred four years ago was a special circumstance and is unrelated to the current proposed registration fee changes.

One commenter suggested that DDTC consider implementing pricing scales for different types of licenses or consider additional streams of revenue available outside of registration fees. For example, the commenter suggested that DSP-6, DSP-74, and DSP-62 may be billed at a lower rate due to the limited time and resources needed to review and approve applications. Further, the same commenter also suggested limited fee structures may be explored for foreign entities that request DSP-6004 for reexports or retransfers. The Department notes that under the Arms Export Control Act, DDTC is authorized to charge for registration fees, not a fee per license.

One commenter noted that as a risk mitigation practice, companies often apply for a license when the regulatory language or environment is unclear. DDTC's proposed license fee increases may disincentivize companies from submitting licenses when the regulatory requirements are ambiguous. The Department notes the ITAR requires a license for the export, temporary import, or furnishing of defense services. Industry may submit a request for an Advisory Opinion to get more information on regulatory language. The “Advisory Opinions (AO)” application in DECCS allows industry users to electronically submit inquiries pursuant to ITAR §§ 120.22(a) (for preliminary authorization determinations) and (c) (for interpretations of ITAR requirements other than brokering) and 129.9(a) (for guidance whether an activity is a brokering activity) and (c) (for guidance on other areas of brokering).

One commenter inquired how the new registration fees will increase the investments in DECCS and technology. The Department provides that DDTC plans include continuing to update DECCS with user-requested and other enhancements, specifically as it applies to the DECCS-Licensing application and its integrations with other external applications (e.g., USXports, Automated Export System). The DDTC IT Modernization Team is tracking these enhancements for continued improvements and meets periodically with the DECCS User Group (DUG) and the Defense Trade Advisory Group (DTAG) regarding information technology (IT) user matters and responds to feedback from both. The DDTC IT Modernization Team will continue to share periodic updates with and solicit feedback from both the DTAG and the DUG.

One commenter suggested that DDTC take a phased approach to increasing its registration fees so that registrants may account for budgeting while mitigating their financial risks. The Department understands the need for entities to budget for this proposed increase and is therefore delaying the effective date and implementation of this new rule until January 2025. DDTC will continue to socialize the new registration fee structure so that registrants are aware of the new registration fees ahead of the implementation. All registrants will continue to receive a letter in DECCS that states their new registration fee 90 days ahead of their due date. Additionally, DDTC plans to conduct registration fee analyses every two-years, which should mitigate the need for a similarly significant increase in the future. DDTC will continue to solicit public comment to gather industry's point of view.

The Department received a few comments asking for additional detail about how the Department determined the new registration fee costs. One commenter suggested that DDTC should disclose a budget for these increased estimated funds “and then justify that spend in how it will continue to serve and improve industry.” Based on the Department's analysis, the proposed increase in registration fees allows DDTC to adjust for inflation, to continue to make IT and other internal improvements, and to efficiently address industry's needs, as stated above. The increased registration fees are necessary to maintain the high level of service of the statutorily required export control system. DDTC will continue to engage with industry (via the DTAG, DUG, and industry events) to provide insights into how the organization serves the regulated community.

In addition to the comments addressed above, the Department received several comments outside the scope of this rulemaking. The Department takes note of these comments but is not entertaining substantive revisions to other existing text of the ITAR in this rulemaking.

Regulatory Analysis and Notices

Administrative Procedure Act

The Department has historically determined that rulemakings implementing the Arms Export Control Act or amending the ITAR involve a military or foreign affairs function of the United States under 5 U.S.C. 553(a). However, due to Department's interest in seeking public comment on this rule, the Department solicited comments during a 45-day comment period, to which it is now responding in this final rule.

Regulatory Flexibility Act

Since this rule is exempt from the notice-and-comment rulemaking provisions of 5 U.S.C. 553, it does not require analysis under the Regulatory Flexibility Act.

Unfunded Mandates Reform Act of 1995

This rulemaking does not involve a mandate that will result in the expenditure by State, local, and Tribal governments, in the aggregate, or by the private sector, of $100 million or more in any year and it will not significantly or uniquely affect small governments. Therefore, no actions were deemed necessary under the provisions of the Unfunded Mandates Reform Act of 1995.

Executive Orders 12372 and 13132

This rulemaking does not have sufficient federalism implications to require consultations or warrant the preparation of a federalism summary impact statement. The regulations implementing Executive Order 12372 regarding intergovernmental consultation on Federal programs and activities do not apply to this rulemaking.

Congressional Review Act

The Department does not believe that this rulemaking is a major rule, as defined by the Congressional Review Act, 5 U.S.C. 800 et seq.

Executive Orders 12866, 14094, and 13563

Executive Orders 12866 (as amended by Executive Order 14094) and 13563 direct agencies to assess all costs and benefits of available regulatory alternatives and, if regulation is necessary, to select regulatory approaches that maximize net benefits (including potential economic, environmental, public health and safety effects, distributed impacts, and equity). Executive Order 13563 emphasizes the importance of quantifying both costs and benefits, of reducing costs, of harmonizing rules, and of promoting flexibility. This final rule has not been designated as a significant regulatory action by the Office of Information and Regulatory Affairs under Executive Order 12866, as amended.

As noted in the proposed rule, roughly 14,500 registrants in fiscal year (FY) 2023 contributed registration fees to DDTC's FY 2023 collections amounting to $33.8 million. Based on projections made from registrant data from recent years, the new registration fee structure, which presumes roughly the same number of registrants, is expected to bring in an overall total of roughly $67.2 million per year, which would be an overall increase of $33.4 million per year. Although this is a 99 percent projected increase in collections overall from current registration fees for FY 2025, DDTC's projected operational budget will be nearly $60 million, and that amount is expected to continue to increase based on inflation and other increases in expenses. DDTC's $60 million budget includes (but is not limited to) contract labor support, IT services, personnel salaries, outreach, and travel. Accordingly, the revised registration fee structure is necessary for DDTC to continue operating to meet its mission. No action or an insufficient increase would cause budget deficits or a cut in necessary services. Further to a qualitative benefit-cost analysis, the registration fee structure finalized here benefits DDTC by meeting its budget demands in a way that also reasonably accounts for unknown variables such as changes in the number of registrants, or potential exemptions that would not require specific license applications or approvals and therefore decreases the expected collections from Tiers 2 and 3. It also allows for benefits to the regulated community, enabling DDTC to address unexpected contingencies as it did in 2020, when it temporarily lowered registration fee amounts as a relief measure during the COVID-19 pandemic.

The largest increase, on a per-registrant basis, falls on Tier 3 registrants. The Department believes this increase is justified for the reasons discussed previously, including that Tier 3 registrants derive greater benefits from engaging in regulated activities while also consuming a disproportionate amount of DDTC support services. As stated above, the Department continues to have discounts available for Tier 3 renewals. To ensure fairness to those registrants in Tier 3, if they timely show that their total registration fee is greater than 3 percent of the total value of favorable determinations on license applications or other requests for authorization during the 12-month period ending 90 days prior to expiration of the current registration, the registration fee may be reduced to 3 percent of the total license value of such authorizations, or $4,000, whichever is greater, as described on the DDTC website (https://www.pmddtc.state.gov) under Support > Review FAQs > DECCS—Registration > “Understanding the Renewal Fee Download File.” Because we project registrants in Tier 3 to account for over 22,000 of the roughly 26,000 applications expected to be adjudicated by DDTC, the Department believes that this is a more equitable distribution of financial costs. Tier 1 and Tier 2 registrants, on the other hand, will see a 33 percent and 45 percent increase, respectively, not far from the near 40 percent inflation rate in the over fifteen years since the registration fees were last adjusted.

As mentioned above, the Department is putting a new consideration in place for Tier 1 registrants. This was done both in response to comments received and due to a resulting benefit-cost analysis. Qualitatively, the Department does not aim to impose unnecessary costs on registrants, particularly small-business registrants. On the other hand, quantitatively, the Department does not know how many registrants, let alone how many Tiers 1 registrants, are small businesses. Nor does it know their average sales or revenues. The Department does not collect any of this information. Moreover, North American Industry Classification System (NAICS) codes do not provide suitable estimates as there are many industry codes that may have certain companies become registrants based on their activities, and not based on any one or several codes. Consequently, estimating the impact of lower registration fees for such entities on DDTC's necessary revenues and operating budget is not possible. Despite the quantitative uncertainty and risk, the qualitative benefits and the chance to assist some small businesses outweighed the costs to DDTC when the scope of that assistance could be reasonably targeted. To that end, the $500 registration fee-discount petition process introduced above for Tier 1 registrants whose fees equal 1 percent or more of their total revenue in a given year is a way that the Department could mitigate against the burdens that come from the registration fee increase. Tier 1 registrants who receive this discount would end up with a registration fee increase of $250 more, or 11.1 percent more, than their current registration fee, which was last adjusted sixteen years ago in September 2008. The $500 registration fee discount would be 16.67 percent less than the usual Tier 1 registration fee this rule establishes. Because of the unknown volume and effect of this discount, the Department will offer the petition process for one year; however, based on how it affects the budget, the Department will reevaluate whether it may continue the process in future years. Additionally, a further-out delayed effective date until January 2025 for the new registration fee structure was part of the Department's benefit-cost analysis and was done so as to give more lead time to entities to plan for new costs.

Executive Order 12988

The Department of State has reviewed this rulemaking in light of Executive Order 12988 to eliminate ambiguity, minimize litigation, establish clear legal standards, and reduce burden.

Executive Order 13175

The Department of State has determined that this rulemaking will not have tribal implications, will not impose substantial direct compliance costs on Indian Tribal governments, and will not preempt Tribal law. Accordingly, the requirements of Executive Order 13175 do not apply to this rulemaking.

Paperwork Reduction Act

This rulemaking does not impose or revise any information collections subject to 44 U.S.C. chapter 35.

Signing Authority

The Under Secretary, Arms Control and International Security, Bonnie D. Jenkins, having reviewed and approved this document, has delegated the authority to electronically sign this document to Stanley L. Brown, Acting Assistant Secretary, Bureau of Political-Military Affairs, for purposes of publication in the Federal Register.

List of Subjects

22 CFR Part 122

Arms and munitions, Exports, Reporting and recordkeeping requirements.

22 CFR Part 129

Arms and munitions, Brokers, Exports, Technical assistance.

For the reasons discussed in the preamble and under the authority of 22 U.S.C. 2778, the Department of State amends title 22, chapter I, subchapter M, parts 122 and 129 of the Code of Federal Regulations as follows:

PART 122—REGISTRATION OF MANUFACTURERS AND EXPORTERS

1. The authority citation for part 122 continues to read as follows:

Authority: Sections 2 and 38, Pub. L. 90-629, 90 Stat. 744 (22 U.S.C. 2752, 2778); 22 U.S.C. 2651a; E.O. 13637, 78 FR 16129.

2. Amend § 122.1 by revising the section heading and adding a heading to paragraph (a) to read as follows:

§ 122.1 Registration: requirements, exemptions, and purpose.

(a) Requirement to register. * * *

* * * * *

3. Revise § 122.2 to read as follows:

§ 122.2 Registration: submission of registration statement, certification, frequency, renewal, and lapse.

(a) Submission of registration statement. An intended registrant must submit a Statement of Registration (Department of State form DS-2032) to the Office of Defense Trade Controls Compliance by following the electronic filing instructions available on the Directorate of Defense Trade Controls website at www.pmddtc.state.gov. The Statement of Registration may include subsidiaries and affiliates when more than 50 percent of the voting securities are owned by the registrant, or the subsidiaries and affiliates are otherwise controlled by the registrant (see § 120.66 of this subchapter). Registrants may not establish new entities for the purpose of reducing registration fees. The Statement of Registration must:

(1) Be signed by a U.S. person senior officer (e.g., chief executive officer, president, secretary, partner, member, treasurer, general counsel) who has been empowered by the intended registrant to sign such documents; and

(2) Include documentation that demonstrates the registrant is incorporated or otherwise authorized to do business in the United States.

(b) Statement of Registration Certification. The Statement of Registration of the intended registrant shall include a certification by an authorized senior officer of the following:

(1) Whether the intended registrant or its parent, subsidiary, or other affiliate listed in the Statement of Registration, or any of its chief executive officers, presidents, vice presidents, secretaries, partners, members, other senior officers or officials (e.g., comptroller, treasurer, general counsel), or any member of the board of directors of the intended registrant, or of any parent, subsidiary, or other affiliate listed in the Statement of Registration:

(i) Has ever been indicted or otherwise charged (e.g., charged by criminal information in lieu of indictment) for or has been convicted of violating any U.S. criminal statutes enumerated in § 120.6 of this subchapter or violating a foreign criminal law on exportation of defense articles where conviction of such law carries a minimum term of imprisonment of greater than 1 year; or (ii) Is ineligible to contract with, or to receive a license or other approval to import defense articles or defense services from, or to receive an export license or other approval from, any agency of the U.S. Government; and

(2) Whether the intended registrant is foreign owned or foreign controlled (see § 120.65 of this subchapter). If the intended registrant is foreign owned or foreign controlled, the certification shall include an explanation of such ownership or control, including the identities of the foreign person or persons who ultimately own or control the registrant. This requirement applies to a registrant who is a U.S. person and is owned or controlled by a foreign person. It also applies to a registrant who is a foreign person and is owned or controlled by a foreign person from the same country or a foreign person from another country.

(c) Incomplete registration submission. The Directorate of Defense Trade Controls will notify the registrant if the Statement of Registration is incomplete either by notifying the registrant of what information is required or through the return of the entire registration package.

(d) Frequency. A person who is required to register and pay a registration fee must renew the registration and pay a registration fee on an annual basis after initial registration.

(e) Renewal of registration. A registrant must submit its request for registration renewal at least 30 days but no earlier than 60 days prior to the expiration date. Notice of the fee due for the next year's registration will be sent to the registrant of record at least 60 days prior to its expiration date.

(f) Lapse in registration. A registrant who fails to renew a registration and, after an intervening period, seeks to register again must pay registration fees for any part of such intervening period during which the registrant engaged in the business of manufacturing or exporting defense articles or defense services.

4. Revise § 122.3 to read as follows:

§ 122.3 Registration fees.

(a) Registration fee. A person who is required to register must submit payment of a fee following the payment guidelines available on the Directorate of Defense Trade Controls website at www.pmddtc.state.gov. The fee to be paid shall be one of the following:

(1) Tier 1. The first tier is a set fee of $3,000 per year. This applies to new registrants. It also applies to those who are renewing their registrations and for whom the Department did not issue a favorable determination on a license application or other request for authorization during the 12-month period ending 90 days prior to the expiration of the current registration.

(2) Tier 2. The second tier is a set fee of $4,000 for registrants renewing their registrations who have submitted license applications or other requests for authorization and received five or fewer favorable determinations during the 12-month period ending 90 days prior to the expiration of their current registration.

(3) Tier 3. The third tier is a calculated fee for registrants who have submitted license applications or other requests for authorization and received more than five favorable determinations during the 12-month period ending 90 days prior to the expiration of their current registration. For these registrants, the fee calculation is $4,000 plus $1,100 times the total number of favorable determinations over five.

(b) Website, discounts, and further guidance. Information on certain discounts for registrants who are wholly exempt from income tax pursuant to 26 U.S.C. 501(c)(3), and for Tier 3 registrants who are low-value exporters or temporary importers are available on the Directorate of Defense Trade Controls website at www.pmddtc.state.gov by selecting “Conduct Business” on the top heading bar, then selecting “Registration” from the left menu bar, and finally selecting “Payment of Registration” from the subsequent left menu bar. Other guidance and information relevant to the payment of registration fees is also available on the website.

PART 129—REGISTRATION AND LICENSING OF BROKERS

5. The authority citation for part 129 continues to read as follows:

Authority: Section 38, Pub. L. 104-164, 110 Stat. 1437, (22 U.S.C. 2778); E.O. 13637, 78 FR 16129.

§ 129.8 [Amended]

6. Amend § 129.8, in the first sentence of paragraph (b)(1), by removing the text “and a fee following the fee guidelines available on the Directorate of Defense Trade Controls website at www.pmddtc.state.gov.” and adding in its place “and the Tier 1 fee specified in § 122.3(a)(1) of this subchapter, regardless of how many favorable determinations the person received during the 12-month period ending 90 days prior to the expiration of their current registration.”

Stanley L. Brown,
Acting Assistant Secretary, Bureau of Political-Military Affairs, Department of State.

[FR Doc. 2024-29032 Filed 12-6-24; 4:15 pm]

BILLING CODE 4710-25-P